DEPARTMENT OF ENERGY

Federal Energy Regulatory Commission

Combined Notice of Filings #1

Take notice that the Commission received the following Complaints and Compliance filings in EL Dockets:

Docket Numbers: EL23-54-000.

Applicants: Aurora Generation, LLC, et al. v. PJM Interconnection, L.L.C.

Description: Complaint of Aurora Generation, LLC, et al. v. PJM Interconnection, L.L.C.

Filed Date: 4/4/23.

Accession Number: 20230404-5201.

Comment Date: 5 p.m. ET 5/4/23

Docket Numbers: EL23-55-000.

Applicants: Coalition of PJM Capacity Resources v. PJM Interconnection, L.L.C.

Description: Complaint of Coalition of PJM Capacity Resources v. PJM Interconnection, L.L.C.

Filed Date: 4/4/23.

Accession Number: 20230404-5249.

Comment Date: 5 p.m. ET 5/4/23.

Docket Numbers: EL23-56-000.

Applicants: Talen Energy Marketing, LLC v. PJM Interconnection, L.L.C.

Description: Complaint of Talen Energy Marketing, LLC v. PJM Interconnection, L.L.C.

Filed Date: 4/5/23.

Accession Number: 20230405-5177.

Comment Date: 5 p.m. ET 5/5/23.

Docket Numbers: EL23-57-000.

Applicants: Lee County Generating Station, LLC v. PJM Interconnection, L.L.C.

Description: Complaint of Lee County Generating Station, LLC v. PJM Interconnection, L.L.C.

Filed Date: 4/5/23.

Accession Number: 20230405-5179.

Comment Date: 5 p.m. ET 5/5/23.

Docket Numbers: EL23-58-000.

Applicants: SunEnergy1, LLC v. PJM Interconnection, L.L.C.

Description: Complaint of SunEnergy1, LLC v. PJM Interconnection, L.L.C.

Filed Date: 4/5/23.

Accession Number: 20230405-5181.

Comment Date: 5 p.m. ET 5/5/23.

Take notice that the Commission received the following electric rate filings:

Docket Numbers: ER23-425-002.

Applicants: PJM Interconnection, L.L.C.

Description: Tariff Amendment: Amendment of Amended WMPA, SA No. 6062; Queue No. AG1-253 Docket No. ER23-425 to be effective 1/14/2023.

Filed Date: 4/6/23.

Accession Number: 20230406-5069.

Comment Date: 5 p.m. ET 4/27/23.

Docket Numbers: ER23-1074-001.

Applicants: Evergy Metro, Inc.

Description: Tariff Amendment: Amendment Reflecting Transfer of Ownership of Certain Interconnection Equipment to be effective 2/10/2023.

Filed Date: 4/6/23.

Accession Number: 20230406-5098.

Comment Date: 5 p.m. ET 4/27/23.

Docket Numbers: ER23-1238-001.

Applicants: ORNI 36 LLC.

Description: Tariff Amendment: Amendment to be effective 3/4/2023.

Filed Date: 4/6/23.

Accession Number: 20230406-5169.

Comment Date: 5 p.m. ET 4/27/23.

Docket Numbers: ER23-1239-001.

Applicants: USG Nevada LLC.

Description: Tariff Amendment: Amendment to be effective 3/4/2023.

Filed Date: 4/6/23.

Accession Number: 20230406-5182.

Comment Date: 5 p.m. ET 4/27/23.

Docket Numbers: ER23-1578-000.

Applicants: Liberty Utilities (Granite State Electric) Corp.

Description: § 205(d) Rate Filing: Borderline Sales Rate Sheet Update Effective March 2023 w/Notice Waiver to be effective 3/1/2023.

Filed Date: 4/6/23.

Accession Number: 20230406-5017.

Comment Date: 5 p.m. ET 4/27/23.

Docket Numbers: ER23-1579-000.

Applicants: Pacific Gas & Electric Company.

Description: Notice of Termination of Service Agreement No. 10 under Pacific Gas and Electric Company's FERC Electric Tariff Volume No. 4.

Filed Date: 3/28/23.

Accession Number: 20230328-5304.

Comment Date: 5 p.m. ET 4/18/23.

Docket Numbers: ER23-1580-000.

Applicants: Midcontinent Independent System Operator, Inc., MidAmerican Energy Company.

Description: § 205(d) Rate Filing: Midcontinent Independent System Operator, Inc. submits tariff filing per 35.13(a)(2)(iii: 2023-04-06_SA 4032 MidAmerican-Lost Island Wind E&P (J1270) to be effective 3/21/2023.

Filed Date: 4/6/23.

Accession Number: 20230406-5031.

Comment Date: 5 p.m. ET 4/27/23.

Docket Numbers: ER23-1581-000.

Applicants: ISO New England Inc., Eversource Energy Service Company (as agent),Versant Power, New England Power Pool Participants Committee.

Description: § 205(d) Rate Filing: ISO New England Inc. submits tariff filing per 35.13(a)(2)(iii: ISO-NE/NEPOOL; Sunset CNRIS Timeout Rules to be effective 6/5/2023.

Filed Date: 4/6/23.

Accession Number: 20230406-5039.

Comment Date: 5 p.m. ET 4/27/23.

Docket Numbers: ER23-1582-000.

Applicants: Crooked Lake Solar, LLC.

Description: Baseline eTariff Filing: Market-Based Rate Application to be effective 6/6/2023.

Filed Date: 4/6/23.

Accession Number: 20230406-5066.

Comment Date: 5 p.m. ET 4/27/23.

Docket Numbers: ER23-1583-000.

Applicants: Indiana Crossroads Wind Farm II LLC.

Description: Baseline eTariff Filing: Market-Based Rate Application to be effective 6/6/2023.

Filed Date: 4/6/23.

Accession Number: 20230406-5073.

Comment Date: 5 p.m. ET 4/27/23.

Docket Numbers: ER23-1584-000.

Applicants: Pearl River Solar Park LLC.

Description: Baseline eTariff Filing: Market-Based Rate Application to be effective 6/6/2023.

Filed Date: 4/6/23.

Accession Number: 20230406-5079.

Comment Date: 5 p.m. ET 4/27/23.

Docket Numbers: ER23-1585-000.

Applicants: Riverstart Solar Park III LLC.

Description: Baseline eTariff Filing: Market-Based Rate Application to be effective 6/6/2023.

Filed Date: 4/6/23.

Accession Number: 20230406-5080.

Comment Date: 5 p.m. ET 4/27/23.

Docket Numbers: ER23-1586-000.

Applicants: PJM Interconnection, L.L.C.

Description: § 205(d) Rate Filing: Original NSA, Service Agreement No. 6851; Queue No. AE1-020 to be effective 3/7/2023.

Filed Date: 4/6/23.

Accession Number: 20230406-5101.

Comment Date: 5 p.m. ET 4/27/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2023.
Debbie-Anne A. Reese,
Deputy Secretary.

[FR Doc. 2023-07669 Filed 4-11-23; 8:45 am]

BILLING CODE 6717-01-P